DEPARTMENT OF DEFENSE

Department of the Navy

Record of Decision for Purchase of Land in Hancock County, MS for a Naval Special Operations Forces Riverine and Jungle Training Range

AGENCY: Department of the Navy, DoD.

ACTION: Notice of record of decision.

SUMMARY: The Department of the Navy announces its decision to purchase approximately 5,200 acres of privately owned property in the northwestern acoustic buffer of the John C. Stennis Space Center in Hancock County, MS to establish a Naval Special Operations Forces Riverine and Jungle Training Range.

FOR FURTHER INFORMATION CONTACT: Mr. Richard Davis, P.E. (Code ES12/RD), Southern Division Naval Facilities Engineering Command, P.O. Box 190010, North Charleston, SC 29419-9010; phone (843) 820-5589; facsimile (843) 820-7472; or e-mail: richard.a.davis1@navy.mil.

SUPPLEMENTARY INFORMATION: Pursuant to Section 102(2)(c) of the National Environmental Policy Act (NEPA) of 1969, 42 U.S.C. 4321 et seq.; Council on Environmental Quality regulations (40 CFR Parts 1500-1508); and Department of the Navy regulations (32 CFR 775), the Department of the Navy (Navy) announces its decision to purchase approximately 5,200 acres of privately owned property in the northwestern acoustic buffer of the John C. Stennis Space Center (SSC) in Hancock County, MS to establish a Naval Special Operations Forces (SOF) riverine and jungle training range. This decision implements Basic Training Alternative C, the preferred type and tempo of training alternative at Alternative Range Location 3, as described in the Final Environmental Impact Statement (EIS). The range will provide Naval SOF with reliable and priority access to a local training range characterized by a permanent riverine and jungle environment and where live combat exercises using Short Range Training Ammunition (SRTA) can be conducted.

Background and Issues: Naval SOF have conducted riverine and jungle training along the lower Pearl River and its tributaries within the boundaries of the SSC since the late 1990's. Current training operations consist of transitory events, including riverine patrol and interdiction, insertion and extraction in the riverine and jungle environment, inland reconnaissance and surveillance operations, craft concealment and evasion tactics and surveillance of rivers and waterways. Only blank-fire is authorized during these training activities.

The timely development of SRTA has made it possible to consider the use of SRTA-fire in specific existing training areas where all previous weapons training has been limited to blank-fire. This training improvement allows Naval SOF to understand the dynamics of firing live ammunition, such as the dynamics of randomly-fired projectiles leaving the weapon, the reaction (ricochet) of ammunition hitting objects, and a demonstration of techniques that avoid friendly-fire incidents during combat. SRTA-fire is safer for use during training and SRTA-fire is safer potentially on the environment.

The purpose of the proposed action is to significantly improve existing Naval SOF riverine and jungle training available at SSC by establishing a training range where Naval SOF have priority access to conduct live combat exercises using SRTA. The proposed range will meet the needs of Naval SOF for comprehensive, systematic, and progressive jungle and riverine training under realistic combat conditions. As a result, the readiness of Naval SOF to support national defense objectives will be increased and the potential for combat casualties reduced.

The proposed property acquisition will be completed as quickly as practicable, consistent with Congressional appropriations and final assessments and negotiations with property owners. Military use of the property will continue by permission of existing property owners, but will be expanded consistent with the Final EIS and this Record of Decision to include SRTA and increased operational tempo only after all of the necessary parcels are purchased.

Alternatives Considered: In identifying a reasonable range of alternatives that will satisfy the Navy's purpose and need, Naval Special Warfare Command (NAVSPECWARCOM) initially evaluated the feasibility of training at existing military and Federal installations within the southeast United States where NAVSPECWARCOM units had previously conducted (or had submitted a request to conduct) riverine training, as well as locations known to have specifically developed a riverine training capability, including: Fort Knox, KY; Eglin Air Force Base (AFB), FL; Camp Lejeune, NC; and SSC, MS. A screening analysis, based upon operational factors set out in the Final EIS was conducted to determine whether these potential range locations could be considered reasonable alternatives. Only the SSC area was found to be consistent with the operational screening factors and as a result, Fort Knox, Eglin AFB, and Camp Lejeune were eliminated from further evaluation.

Additional operational factors were applied to the analysis of alternative training range sites in the vicinity of SSC. These operational factors considered the extent to which realistic training scenarios could be conducted and the safety of Naval SOF personnel and the public. Of the five candidate ranges evaluated, only Alternative Range Location 3 was found to meet all identified operational factors.

In addition to the no action alternative, three operational alternatives (Basic Training Alternatives A, B, and C) were analyzed in detail, in the Final EIS. The basic training alternatives are differentiated by training type and tempo. However, all of the alternatives would involve 36 weeks per year of training on the East Pearl River, an increase of 11 weeks per year compared to existing conditions. Even with implementation of any of the proposed alternatives, Naval SOF will continue to conduct necessary live-fire training at the Army ranges at Fort Knox, KY.

Basic Training Alternative A would allow Naval SOF to conduct basic training activities within the selected range location. This would include small arms training with SRTA and the use of High Mobility Multi-purpose Wheeled Vehicles (HMMWVs).

Basic Training Alternative B builds upon the activities identified for Basic Training Alternative A and would allow possible use of the range by other SOF elements such as Army SOF Surveillance and Reconnaissance elements. Other authorized operations on the range could involve the use of maritime unmanned aerial vehicles (UAVs), and unmanned riverine observation craft (UROCs). The UAVs would operate at treetop height above the river, and UROCs would be limited to areas located in front of the controlling watercraft. In addition, 36 helicopter insertion and extraction events would be conducted annually. Each event will consist of 10 helicopters conducting arrival, SOF insertion/deployment, SOF extraction, and departure movements. All flight plans would be filed and Notice to Airmen (NOTAM) issued for any planned helicopter operations.

Basic Training Alternative C, which has been identified as the preferred alternative by NAVSPECWARCOM, would allow Naval SOF to conduct all of the activities identified for Basic Training Alternative B and provide for conducting 24 additional helicopter insertion and extraction events, for a total of 60 annual events with ten helicopters each, participating in joint combined operations with Army SOF units.

Ensuring the safety of proposed range users and the public at large is of paramount importance to the Navy. NAVSPECWARCOM will develop a “SRTA-Fire Range Safety Procedures Plan” for controlling water-to-land and land-to-land SRTA-fire range operations. The plan will require that the full flight profile of all ordnance used on the range will be safely contained within the range perimeter and established safety zone. The safety plan will specify procedures for notifying the public of planned range operations that may affect access to the East Pearl River or adjacent lands, list range safety personnel and their roles and responsibilities, and identify the procedures to be followed in the event of injuries to personnel or the public.

To insure public safety during operations conducted on or adjacent to the East Pearl River, the Navy may request the U.S. Army Corps of Engineers (consistent with the conditions of 33 CFR 334, Danger Zone and Restricted Area Regulations), to establish an area to be temporarily restricted from public passage on the East Pearl River and Mikes River during SRTA-fire or other sensitive training. Actual firing time will usually be limited to increments of about 10 to 15 minutes infrequently throughout the training cycle. Public passage will be allowed to resume when it is safe to do so.

In addition to the basic training alternatives, the Final EIS evaluates the consequences of implementing the No Action Alternative. Under this alternative, privately owned property in Hancock County, MS would not be purchased nor would the Naval SOF training range be established. Naval SOF training operations conducted in the area would remain at current levels and Naval SOF boat detachments would continue to conduct only blank-fire exercises. Live-fire exercises would continue to be scheduled at the Army training range at Fort Knox, KY. The No Action Alternative is the environmentally preferred alternative because it involves no change to the physical environment. However, it would not meet the Navy's purpose and need for the proposed action.

Environmental Impacts: The Final EIS assesses the direct, indirect, and cumulative environmental effects of implementing the three basic training alternatives and the no action alternative on earth resources, air quality, noise, water resources, solid and hazardous materials, biological resources, land use and aesthetics, socioeconomics and environmental justice, public health and safety, transportation, recreation, and cultural resources. No significant environmental impacts were identified for any resource area for any alternative; however, to reduce even further the potential environmental impacts of the proposed action, the Navy will: (1) Implement a spill contingency plan to reduce or eliminate the potential for contamination of soils from accidental spills and releases from vehicles, watercraft, and aircraft; (2) implement fugitive dust controls on roadways; (3) prohibit the release of bilge water from watercraft during training exercises; (4) limit activities that generate hazardous waste, such as hull maintenance, weapons maintenance, and outboard motor maintenance and overhaul, to the boat storage and maintenance yard and the SBT-22 training facility; and (5) conduct all refueling of Naval SOF watercraft, HMMWVs, and helicopters at approved facilities outside the proposed range.

Since the U.S. Army Corps of Engineers has indicated that the majority of the proposed range area is subject to their jurisdiction under Section 404 of the Clean Water Act, some construction/maintenance activities, such as the potential road maintenance and culvert repair/replacement, could require a Department of the Army permit. The need for a permit would depend on the specific location of the proposed activities and projected impacts. For those actions that will result in impacts to any Section 404 jurisdictional areas, permitting activities will be initiated.

In addition, the Navy intends to allow hunting to occur within the proposed range. The hunting program will be consistent with state and local hunting programs, but will be developed such that it will not interfere with the military training mission of the area and will adequately provide for the safety of participants in the program.

Response to Comments Received Regarding the FEIS: The Final EIS was distributed to government agencies and the public on August 6, 2004, for a 30-day public review period. During this period only two comment letters were received, one from U.S. Environmental Protection Agency and the other from the Louisiana Department of Environmental Quality. No new substantive issues were raised in the comments received. All of the issues raised in the comment letters were thoroughly discussed in the Final EIS.

Conclusions: After carefully considering the purpose and need for the proposed action, the analyses contained in the Final EIS, and the comments received on the Draft and Final EIS from Federal, state, and local agencies, non-governmental organizations, and individual members of the public, I have determined that purchase of the proposed acreage at SSC (Alternative Range Location 3) and establishment of a Naval SOF riverine and jungle training range to conduct training, as described in Basic Training Alternative C will best meet the needs of Naval SOF to train under realistic combat conditions, thereby increasing their readiness to support national defense objectives and ultimately reducing combat casualties.

Dated: October 6, 2004.
Wayne Arny,
Deputy Assistant Secretary of the Navy (Installations and Facilities).

[FR Doc. 04-23334 Filed 10-18-04; 8:45 am]

BILLING CODE 3810-FF-P